DEPARTMENT OF ENERGY

Federal Energy Regulatory Commission

[Docket No. EC00-76-000, et al.]

Indeck Capital, Inc. and Black Hills Corporation, et al.; Electric Rate and Corporate Regulation Filings

May 3, 2000.

Take notice that the following filings have been made with the Commission:

1. Indeck Capital, Inc. and Black Hills Corporation

[Docket No. EC00-76-000]

Take notice that on April 27, 2000, Indeck Capital, Inc. (Indeck) and Black Hills Corporation (Black Hills), tendered for filing Supplement No. 1 to Exhibit H of the Joint Application of Indeck Capital, Inc. (Indeck) and Black Hills Corporation (Black Hills) (collectively, Applicants) for Approval of the Transfer of Jurisdictional Assets Under Section 203 of the Federal Power Act and Request for Expedited Consideration (hereinafter, the Section 203 Application and Supplement No. 1, respectively). The Section 203 Application was filed on April 10, 2000, and seeks authorization to merge Indeck into Black Hills Energy Capital, Inc., a subsidiary of Black Hills Corporation. Supplement No. 1 supplements Exhibit H to the Application, which contains privileged and redacted copies of the Agreement and Plan of Merger between Indeck and Black Hills (the Merger Agreement). Supplement No. 1 supplements specific provisions of the Merger Agreement and is provided in both privileged and redacted form.

Comment date: June 9, 2000, in accordance with Standard Paragraph E at the end of this notice.

2. CinCap VII, LLC

[Docket No. EG00-113-000]

Take notice that on April 26, 2000, CinCap VII, LLC (CinCap VII), with its principal office at 1100 Louisiana Street, Suite 4950, Houston, Texas 77002, filed a modification to its application for determination of exempt wholesale generator status pursuant to part 365 of the Commission's regulations, which was previously filed with the Commission on March 6, 2000.

CinCap VII requests that the reference to “gas storage” activities be deleted from its Application.

Comment date: May 24, 2000, in accordance with Standard Paragraph E at the end of this notice. The Commission will limit its consideration of comments to those that concern the adequacy or accuracy of the application.

3. TXU (No. 5) Pty Ltd

[Docket No. EG00-137-000]

Take notice that on April 27, 2000, TXU (No. 5) Pty Ltd (TXU (No. 5) filed with the Federal Energy Regulatory Commission an application for determination of exempt wholesale generator status pursuant to Section 32 of the Public Utility Holding Company Act of 1935 and Part 365 of the Commission's regulations.

TXU No. 5 is an Australian corporation that is an indirect subsidiary of Texas Utilities Company, a Texas corporation which is an exempt holding company under the Public Utility Holding Company Act of 1935, as amended. TXU No. 5 is contemplating the lease of two electric generating facilities located in South Australia. Torrens Island Power Station A and Torrens Island Power Station B are each located on Torrens Island, South Australia.

Comment date: May 24, 2000, in accordance with Standard Paragraph E at the end of this notice. The Commission will limit its consideration of comments to those that concern the adequacy or accuracy of the application.

4. TXU (No. 5) Pty Ltd

[Docket No. EG00-138-000]

Take notice that on April 27, 2000, TXU (No. 5) Pty Ltd (TXU (No. 5) filed with the Federal Energy Regulatory Commission an application for determination of exempt wholesale generator status pursuant to Section 32 of the Public Utility Holding Company Act of 1935 and Part 365 of the Commission's regulations.

TXU No. 5 is an Australian corporation that is an indirect subsidiary of Texas Utilities Company, a Texas corporation which is an exempt holding company under the Public Utility Holding Company Act of 1935, as amended. TXU No. 5 is contemplating the lease of four electric generating facilities located in South Australia. Dry Creek Power Station is located in the suburbs of Adelaide, South Australia. Mintaro Power Station is located in Mintaro, South Australia. Snuggery Power Station is located near Millicent, South Australia. Port Lincoln Power Station is located near Port Lincoln, South Australia.

Comment date: May 24, 2000, in accordance with Standard Paragraph E at the end of this notice. The Commission will limit its consideration of comments to those that concern the adequacy or accuracy of the application.

5. Orion Power Operating Services MidWest, Inc.

[Docket No. EG00-139-000]

Take notice that on April 26, 2000, Orion Power Operating Services MidWest, Inc., with its principal office at 2000 Cliff Mine Road, Suite 200, Pittsburgh, PA 15275, filed with the Federal Energy Regulatory Commission (Commission) an application for determination of exempt wholesale generator status pursuant to Part 365 of the Commission's regulations.

Comment date: May 24, 2000, in accordance with Standard Paragraph E at the end of this notice. The Commission will limit its consideration of comments to those that concern the adequacy or accuracy of the application.

6. Dayton Power and Light Company

[Docket Nos. OA96-64-006, OA97-131-001, OA97-132-001, OA97-133-001, OA97-134-001, OA97-138-001, OA97-142-001 and OA97-274-001]

Take notice that on April 28, 2000, The Dayton Power and Light Company (Dayton) tendered for filing its compliance report in the above-captioned dockets, a compliance report in response to the Commission's order in Allegheny Power Service Co., et al., 90 FERC ¶ 61,224 (2000).

Comment date: June 2, 2000, in accordance with Standard Paragraph E at the end of this notice.

7. Maine Public Service Company

[Docket Nos. OA96-122-005]

Take notice that on April 28, 2000, Maine Public Service Company, submitted a status report in compliance with the Commission's February 29, 2000 order in Allegheny Power Service Co. et al., 90 FERC ¶ 61,224 (2000).

Comment date: June 2, 2000, in accordance with Standard Paragraph E at the end of this notice.

8. Arizona Public Service Company

[Docket No. OA96-153-006]

Take notice that on April 28, 2000 , Arizona Public Service Company (APS) tendered for filing its compliance in response to the Commission's order in Allegheny Power Service Co., et al., 90 FERC ¶ 61,224 (2000).

A copy of this filing has been served on the Arizona Corporation Commission.

Comment date: June 2, 2000, in accordance with Standard Paragraph E at the end of this notice.

9. Carolina Power & Light Company

[Docket No. OA96-198-004]

Take notice that on May 1, 2000, Carolina Power & Light Company tendered for filing with the Federal Energy Regulatory Commission (Commission), a letter in compliance with the Commission's order in Allegheny Power Service Co., et al. 90 FERC ¶ 61,224 (2000).

Comment date: June 2, 2000, in accordance with Standard Paragraph E at the end of this notice.

10. Wisconsin Power & Light Company

[Docket Nos. OA97-190-001 and OA97-409-001]

Take notice that on April 27, 2000, Wisconsin Power & Light Company, Wisconsin Public Service Corporation and Madison Gas & Electric Company submitted a compliance filing pursuant to the Commission's February 29, 2000 order in Allegheny Power Service Co., et al., 90 FERC ¶ 61,224 (2000).

Copies of the filing were served on the persons named on the official service lists in these dockets.

Comment date: June 2, 2000, in accordance with Standard Paragraph E at the end of this notice.

11. Minnesota Power & Light Company

[Docket No. OA97-194-002]

Take notice that on April 25, 2000, Minnesota Power & Light Company filed a letter in compliance to the Commission's order in Allegheny Power Service Company, et al., 90 FERC ¶ 61,224.

Comment date: June 2, 2000, in accordance with Standard Paragraph E at the end of this notice.

12. Northeast Utilities Service Company

[Docket Nos. OA97-300-001, OA97-563-001 and OA97-687-001]

Take notice that on April 28, 2000, Northeast Utilities Service Company (NUSCO) tendered for filing a report in compliance with the Commission's order in Allegheny Power Service Co., et al., 90 FERC ¶ 61,224 (2000).

Comment date: June 2, 2000, in accordance with Standard Paragraph E at the end of this notice.

13. Boston Edison Company

[Docket No. OA97-674-001]

Take notice that on May 1, 2000 Boston Edison Company (BECo) filed a report in compliance with the Commission's February 29, 2000 order in Allegheny Power Service Co., et al., 90 FERC ¶ 61,224. BECo states that all contested issues have been resolved in other proceedings and recommends that the Commission accept its filing and then terminate this docket.

Comment date: June 2, 2000, in accordance with Standard Paragraph E at the end of this notice.

14. Pacific Gas and Electric Company

[Docket Nos. ER99-2326-004 and EL99-68-004]

Take notice that on April 27, 2000, Pacific Gas and Electric Company (PG&E), tendered for filing a wholesale transmission refund report in compliance with an Order of the Federal Energy Regulatory Commission, Docket Nos. ER98-2326-002 and EL99-68-000, dated January 31, 2000.

Copies of this filing have been served upon the California Independent System Operator, California Independent System Operator-registered Scheduling Coordinators, Southern California Edison Company, San Diego Gas and Electric Company, and the California Public Utilities Commission.

Comment date: May 18, 2000, in accordance with Standard Paragraph E at the end of this notice.

15. Ameren Services Company

[Docket No. ER00-1760-001]

Take notice that on April 27, 2000, Ameren Services Company (ASC), tendered for filing an executed Network Integration Transmission Service Agreement and an executed Network Operating Agreement, between ASC and the City of Farmington. ASC asserts that the purpose of the agreements is to permit ASC to provide service over its transmission and distribution facilities to the City of Farmington pursuant to the Ameren Open Access Tariff. The executed agreements supersede an unexecuted Network Service Agreement and an unexecuted Network Operating Agreement previously filed on March 1, 2000.

Comment date: May 18, 2000, in accordance with Standard Paragraph E at the end of this notice.

16. New England Power Company

[Docket No. ER00-2195-000]

Take notice that on April 27, 2000, New England Power Company tendered for filing an amendment to its April 13, 2000, filing in above-referenced proceeding, correcting an error contained in its letter of transmittal.

Comment date: May 18, 2000, in accordance with Standard Paragraph E at the end of this notice.

17. NEPA Energy LP

[Docket No. ER00-2316-000]

Take notice that on April 26, 2000, NEPA Energy LP, tendered for filing an Application for Order Accepting Rate Schedule for Power Sales at Market-Based Rates and Granting Waivers and Pre-Approvals of Certain Commission Regulations.

Comment date: May 17, 2000, in accordance with Standard Paragraph E at the end of this notice.

18. Mid-Continent Area Power Pool

[Docket No. ER00-2317-000]

Take notice that on April 26, 2000, Mid-Continent Area Power Pool (MAPP), tendered for filing for leave to implement modifications to its line loading relief procedures pending commission review.

Comment date: May 17, 2000, in accordance with Standard Paragraph E at the end of this notice.

19. Allegheny Energy Service Corporation, on Behalf of Monongahela Power Company, The Potomac Edison Company, and West Penn Power Company (Allegheny Power)

[Docket No. ER00-2318-000]

Take notice that on April 27, 2000, Allegheny Energy Service Corporation on Behalf of Monongahela Power Company, The Potomac Edison Company and West Penn Power Company (Allegheny Power), tendered for filing Supplement No. 78 to add Cinergy Capital & Trading, Inc., to Allegheny Power's Open Access Transmission Service Tariff which has been accepted for filing by the Federal Energy Regulatory Commission in Docket No. ER96-58-000.

The proposed effective date under the Service Agreements is April 26, 2000 or a date ordered by the Commission.

Copies of the filing have been provided to the Public Utilities Commission of Ohio, the Pennsylvania Public Utility Commission, the Maryland Public Service Commission, the Virginia State Corporation Commission, and the West Virginia Public Service Commission.

Comment date: May 18, 2000, in accordance with Standard Paragraph E at the end of this notice.

20. PacifiCorp

[Docket No. ER00-2319-000]

Take notice that on April 27, 2000, PacifiCorp tendered for filing in accordance with 18 CFR 35 of the Commission's Rules and Regulations, umbrella Transmission Service Agreements with Duke Energy Trading & Marketing under PacifiCorp's FERC Electric Tariff, First Revised Volume No. 11 (Tariff) and termination of a Service Agreement with Illinova Power Marketing, Inc. under the Tariff.

Copies of this filing were supplied to the Washington Utilities and Transportation Commission and the Public Utility Commission of Oregon.

Comment date: May 18, 2000, in accordance with Standard Paragraph E at the end of this notice.

21. Allegheny Energy Service Corporation, on Behalf of Allegheny Energy Supply Company, LLC

[Docket No. ER00-2321-000]

Take notice that on April 27, 2000, Allegheny Energy Service Corporation on behalf of Allegheny Energy Supply Company, LLC (Allegheny Energy Supply), tendered for filing Amendment No. 1 to Supplement No. 22 to the Market Rate Tariff to incorporate a Netting Agreement with Duke Energy Trading and Marketing, L.L.C., into the tariff provisions.

Allegheny Energy Supply requests a waiver of notice requirements to make the Amendment effective as of April 10, 2000 or such other date as ordered by the Commission.

Copies of the filing have been provided to the Public Utilities Commission of Ohio, the Pennsylvania Public Utility Commission, the Maryland Public Service Commission, the Virginia State Corporation Commission, the West Virginia Public Service Commission, and all parties of record.

Comment date: May 18, 2000, in accordance with Standard Paragraph E at the end of this notice.

22. PJM Interconnection, L.L.C.

[Docket No. ER00-2322-000]

Take notice that on April 27, 2000, PJM Interconnection, L.L.C. (PJM), tendered for filing a signature page to the Reliability Assurance Agreement among Load Serving Entities in the PJM Control Area (RAA) for Metromedia Energy, Inc. (Metromedia), and an amended Schedule 17 listing the parties to the RAA.

PJM states that it served a copy of its filing on all parties to the RAA, including Metromedia, and each of the state electric regulatory commissions within the PJM Control Area.

Comment date: May 18, 2000, in accordance with Standard Paragraph E at the end of this notice.

23. Tampa Electric Company

[Docket No. ER00-2323-000]

Take notice that on April 27, 2000, Tampa Electric Company (Tampa Electric), tendered for filing a consent agreement among Tampa Electric, the City of Fort Meade, Florida (Fort Meade), and the Florida Municipal Power Agency (FMPA) that provides for conditions upon the assignment by Fort Meade to FMPA of a service agreement under Tampa Electric's wholesale requirements tariff.

Tampa Electric proposes that the consent agreement be made effective on February 1, 2000, and therefore requests waiver of the Commission's notice requirement.

Copies of the filing have been served on Fort Meade, FMPA, and the Florida Public Service Commission.

Comment date: May 18, 2000, in accordance with Standard Paragraph E at the end of this notice.

24. Louisiana Generating LLC

[Docket No. ER00-2324-000]

Take notice that on April 27, 2000, Louisiana Generating LLC tendered for filing under its market-based rate tariff 11 long-term service agreements with 11 Louisiana electric cooperatives. Louisiana Generating LLC also filed three assignment contracts with Southwestern Electric Power Company (SMEPA), South Mississippi Electric Power Association (SWEPCO), and the Municipal Energy Agency of Mississippi (MEAM). The underlying long-term power sales contracts between Louisiana Generating LLC and SMEPA, SWEPCO, and MEAM have been accepted for filing by the Commission in Docket No. ER00-1259-000.

Comment date: May 18, 2000, in accordance with Standard Paragraph E at the end of this notice.

25. Idaho Power Company

[Docket No. ER00-2329-000]

Take notice that on April 27, 2000, Idaho Power Company (IPC) tendered for filing with the Federal Energy Regulatory Commission Service Agreements for Non-Firm Point-to-Point Transmission Service and Firm Point-to-Point Transmission Service between Idaho Power Company and British Columbia Power Exchange Corporation.

Comment date: May 18, 2000, in accordance with Standard Paragraph E at the end of this notice.

26. California Power Exchange Corporation

[Docket No. ER99-2229-000]

Take notice that on April 27, 2000, the California Power Exchange Corporation (CalPX), on behalf of its CalPX Trading Services Division (CTS), tendered for filing an index of CTS customers through March 31, 2000. This quarterly filing is required by the Commission's May 26, 1999 order in Docket No. ER99-2229-000, authorizing the establishment of a Block-Forward Market. The CalPX states that it has served copies of its filing on the affected customers and on the California Public Utilities Commission.

Comment date: May 19, 2000, in accordance with Standard Paragraph E at the end of this notice.

27. Delmarva Power and Light Company

[Docket No. ER00-2330-000]

Take notice that on April 27, 2000, Delmarva Power and Light Company (Delmarva), tendered for filing proposed tariff sheets for the PJM Interconnection, LLC's Open Access Transmission Tariff (PJM Tariff) to accommodate the State of Maryland's retail access program. The proposed tariff sheets describe the procedures for determining the peak load contributions and hourly load obligations for Delmarva's retail customers located in the Delmarva zone. This information is used in the determination of capacity, transmission, and hourly energy obligations.

Copies of the filing have been served on all the members of the PJM Interconnection, LLC and the Maryland Public Service Commission.

Comment date: May 18, 2000, in accordance with Standard Paragraph E at the end of this notice.

28. Illinois Power Company

[Docket No. ER00-2331-000]

Take notice that on April 27, 2000, Illinois Power Company (Illinois Power), 500 South 27th Street, Decatur, Illinois 62526, tendered for filing firm and non-firm transmission agreements under which MIECO, Inc., will take transmission service pursuant to its open access transmission tariff. The agreements are based on the Form of Service Agreement in Illinois Power's tariff.

Illinois Power has requested an effective date of May 1, 2000.

Comment date: May 18, 2000, in accordance with Standard Paragraph E at the end of this notice.

29. Southwestern Public Service Company

[Docket No. ER00-2332-000]

Take notice that on April 27, 2000, New Century Services, Inc., on behalf of Southwestern Public Service Company (Southwestern), tendered for filing an executed umbrella service agreement under Southwestern's market-based sales tariff with Western Area Power Administration—Colorado River Storage Project. (WAPA-CRSP). This umbrella service agreement provides for Southwestern's sale and WAPA-CRSP's purchase of capacity and energy at market-based rates pursuant to Southwestern's market-based sales tariff.

Comment date: May 18, 2000, in accordance with Standard Paragraph E at the end of this notice.

30. Horsehead Industries, Inc.

[Docket No. ER00-2333-000]

Take notice that on April 27, 2000, Horsehead Industries, Inc., on behalf of itself and its unincorporated division Zinc Corporation of America, submitted for filing, pursuant to Section 205 of the Federal Power Act, and Part 35 of the Commission's regulations, a Petition for authorization to make sales of capacity, energy, and certain Ancillary Services, at market-based rates, and to reassign transmission capacity.

Comment date: May 18, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-11612 Filed 5-9-00; 8:45 am]

BILLING CODE 6717-01-P